DEPARTMENT OF THE INTERIOR

National Park Service

Environmental Statements; Record of Decision: Low Country Gullah Culture, North Carolina and Florida

AGENCY: National Park Service, Interior.

ACTION: Notice of Availability of a Record of Decision for the Low Country Gullah Culture Special Resource Study and Final Environmental Impact Statement.

SUMMARY: Pursuant to Section 102(2)(C) of the National Environmental Policy Act of 1969, the National Park Service (NPS) announces the availability of a Record of Decision (ROD) for the Final Environmental Impact Statement (EIS) for the Low Country Gullah Culture Special Resource Study (Study). The Study area stretches along the southeastern United States coast roughly from the Cape Fear River in North Carolina to the St. John's River in Florida and approximately 30 miles inland. The Study describes ways that the NPS can assist in preserving Gullah culture (more commonly known as Geechee in Georgia and Florida) by outlining four management alternatives for consideration by Congress, and a no-action alternative. The alternatives provide a range of actions for the future protection, interpretation, and commemoration of Gullah cultural resources. The Final EIS analyzes the potential environmental impacts of those actions.

The ROD describes the background of the Study, other alternatives considered, the basis for the decision, the environmentally preferable alternative, and public involvement in the decision-making process. The ROD was approved by the Southeast Regional Director on November 4, 2005.

DATES: The ROD was signed by the Southeast Regional Director on November 4, 2005.

ADDRESSES: Copies of the ROD are available by contacting John Barrett, National Park Service, 100 Alabama St., SW., Atlanta, Georgia 30303. An electronic copy of the ROD is available on the Internet at http://www.nps.gov/sero/planning/gg_srs/gg_res.htm.

FOR FURTHER INFORMATION CONTACT: John Barrett, 404-562-3124, extension 637.

The responsible official for the ROD and the Final EIS is Patricia A. Hooks, Regional Director, Southeast Region, National Park Service, 100 Alabama Street, SW., 1924 Building, Atlanta, Georgia 30303.

Dated: January 4, 2006.
Victor Knox,
Acting Deputy Regional Director, Southeast Region.

[FR Doc. 06-1898 Filed 2-28-06; 8:45 am]

BILLING CODE 4310-70-M